DEPARTMENT OF COMMERCE

International Trade Administration

California Institute of Technology, et al., Notice of Consolidated Decision on Applications for Duty-Free Entry of Scientific Instruments

This is a decision consolidated pursuant to Section 6(c) of the Educational, Scientific, and Cultural Materials Importation Act of 1966 (Pub. L. 89-651, 80 Stat. 897; 15 CFR part 301). Related records can be viewed between 8:30 A.M. and 5:00 P.M. in Room 2104, U.S. Department of Commerce, 14th Street and Constitution Avenue, NW., Washington, DC 20301

Comments: None received. Decision: Approved. No instrument of equivalent scientific value to the foreign instruments described below, for such purposes as each is intended to be used, is being manufactured in the United States.

Docket Number: 06-008. Applicant: California Institute of Technology, Pasadena, CA 91125. Instrument: Neutron Guide. Manufacturer: Swiss Neutronics, Switzerland. Intended Use: See 71 FR 18082, July 27, 2006. Reasons: The article is a compatible key accessory for the high-resolution, direct-geometry, time-of-flight chopper spectrometer (ARCS) at the Spallation Neutron Source at Oak Ridge N.L. It will be used to investigate the energy spectra obtained when neutrons incident on a sample are scattered by the motions of atoms or of electron spins in the sample. Studies will include the thermodynamics of atom vibrations or spin motions, or of their characteristic energies and momenta, cooperative motions of electrons in solids relevant to electrical transport, magnetic properties and superconductivity. The neutron guide is especially useful for studies that require low or medium-energy neutron beams that are incident upon the sample.

Docket Number: 06-014. Applicant: Howard Hughes Medical Institute, Harvard Medical School Boston, MA 02115. Instrument: Confocal Microscope, Model Opera. Manufacturer: Evotec, Germany. Intended Use: See notice at 71 FR 18082, April 10, 2006. Reasons: The foreign instrument provides:

1. An integrated fast autofocus system and an automated water immersion lens system for superior resolution and lower background in a true point confocal laser scanning microscope using a Nipkow spinning disk

2. Ultra high-throughput performance (> 200,000 images per day)

3. Parallel acquisition of three different wavelengths through three different LCD cameras with a dedicated cluster of three three computers that process an image while the following one is being acquired

4. Open architecture which allows creation of new scripts or modification and enhancement of existing or imported scripts

5. Broad user support providing a wide variety of services with rapid servicing, parts replacement and instrument upgrading.

Advice provided by: The National Institutes of Health.

Docket Number: 06-015. Applicant: University of Kentucky, Department of Chemistry, Lexington, KY 4056-0055. Instrument: Optical Parametric Oscillator System. Manufacturer: GWU Lasertechnik, Germany. Intended Use: See notice at 71 FR 26048, July 27, 2006. Reasons: The foreign article is a compatible accessory for an existing Nd:YAG laser as well as an existing data acquisition system developed over several years. It provides: (1) a wavelength tuning range from 412 nm to 2.5 m, (2) a divergence of < 0.5 mrad, (3) linewidth < 4 cm −1 and (4) motorized crystal tuning.

Docket Number: 06-017. Applicant: University of Michigan, Materials Science and Engineering Department, Ann Arbor, MI 48109-2136. Instrument: Ultrasonic Fatigue Testing Equipment. Manufacturer: BOKU Institute of Physics, Austria. Intended Use: See notice at 71 FR 26048, May 3, 2006. Reasons: The foreign instrument provides a highly specialized system to be used for studying ultra-high cyclic fatigue behavior of materials in the gigacycle regime. It provides measurements for understanding crack growth behavior in various materials including next generation superalloys and prediction of lifetime behavior with cyclic loading frequencies to 20 KHz with capability to stall and return to load repeatedly.

Advice received from the: Air Force Research Lab.

Docket Number: 06-037. Applicant: Wesleyan University, Middletown, CT 06459-0170. Instrument: Micromanipulators and Control System, Temperature Control and Moveable Top Plate . Manufacturer: Scientifica, United Kingdom. Intended Use: See notice at 71 FR 42632, July 27, 2006. Reasons: The foreign instrument provides sub-micron precision and stability so as to allow the manipulators and moveable table to record neurons electrically in whole-cell patch-clamp mode, with a heater to maintain in vivo temperatures. An electrode can penetrate the neuronal membrane allowing electrical control of the neuron. The manipulators, movable table and heater are computer controlled to automatically guide the manipulators back to preset positions. Advice received from: The National Institutes of Health.

Docket Number: 06-041. Applicant: University of Illinois at Chicago, Chicago, IL 6067-7059. Instrument: Beam Stabilizing System. Manufacturer: Laser Laboratorium Gottingen, Germany. Intended Use: See 71 CFR 42633, July 27, 2006. Reasons: The instrument is intended to be used with a KrF Laser in order to improve the beam quality of the laser, maximizing the possibility of a uniform beam with an even wavefront for ultraviolet operation at 248 nm with extension of operation into the x-ray range of 0.29 nm for general studies of the interaction of intense radiation with matter. Advice received from: The National Institutes of Health.

Docket Number: 06-044. Applicant: Columbia University, New York, NY. Instrument: Ultra-High Vacuum Low Temperature Scanning Tunneling Microscope. Manufacturer: Omicron Nano Technology, Germany. Intended Use: See 71 FR 42633, July 27, 2006. Reasons: The foreign instrument provides:

1. A fully cryogenic STM that is directly connected to a liquid helium cryostat at 4 K, with a hold time of 15 hours before recharging is necessary

2. Cooling of both sample and tip for operation and measurement at 4 K with spatial sample/tip instrumental drift rates of less than 1 billionth of an inch per hour.

3. Tip manipulation and transfer inside the ulta-high vacuum chamber without exposure to ambient air conditions.

Docket Number: 06-045. Applicant: Purdue University, Laboratory of Chemistry, West Lafayette, IN 47907-2084. Instrument: Nd:YAG Laser/ Dye Laser. Manufacturer: InnoLas, Germany. Intended Use: See notice at 71 FR 42633, July 27, 2006. Reasons: The foreign instrument provides:

1. Incorporation of both lasers into a single compact housing, ensuring that both lasers are properly aligned and minimizing realignment if they are moved. The smaller footprint saves limited laboratory space.

2. Exceptional mechanical and thermal stability associated with the laser body being fabricated out of a single cast-aluminum body resulting in superior reliability and an exceptionally stable day-to-day beam profile with minimal beam walk for maximal beam overlap

3. The Nd:YAG laser radiates a 600mJ/pulse at 1064 nm, 300mJ/pulse at 532 nm and 140 mJ/pulse at 355 nm.

4. Repetition rate of 20 Hz. All nine of the other Nd:YAG lasers in the lab operate at 20 Hz making this rate an absolute requirement for planned multi-laser experiments.

Advice received from: The National Institutes of Health.

Docket Number: 06-046. Applicant: University of Colorado, JILA Department, Boulder, CO 80309. Instrument: Nd:YAG Laser, Model SL-300-20 D . Manufacturer: InnoLas, Germany. Intended Use: See notice at 71 FR 42633, July 27, 2006 (comparable case with 06-065). Reasons: The foreign instrument provides exceptional stability and reliability to perform experiments run every day over months and years. Down time must be minimal. The laser must be operated in an environment subject to vibration from turbomolecular vacuum pumps. The housing of an InnoLas laser is machined out of a single, monolithic metal block and offers superior stability in a vibrationally harsh environment. The laser must also operate at a repetition rate of 20 Hz to be synchronized with the rest of the experiment and should be mounted as close as possible to the ion source for laser safety, making minimal dimensions of the laser head desirable.

The capabilities of each of the foreign instruments described above are pertinent to each applicant's intended purpose and we know of no other instrument or apparatus being manufactured in the United States which is of equivalent scientific value to any of the foreign instruments.

Gerald A. Zerdy,
Program Manager Statutory Import Programs Staff.

[FR Doc. E6-18048 Filed 10-26-06; 8:45 am]

BILLING CODE 3510-DS-S